DEPARTMENT OF JUSTICE

Notice of Public Comment Period For Proposed Consent Decree Addenda Under the Clean Air Act

Under 28 CFR 50.7, notice is hereby given that, for a period of 15 days, the United States will receive public comments on a proposed Fourth Addendum to Consent Decree in United States, et al. v. Motiva Enterprises LLC, Equilon Enterprises LLC, and Deer Park Refining Limited Partnership, Civil Action No. H-01-0978, which was lodged with the United States District Court for the Southern District of Texas on December 2, 2004.

The original settlement was for civil penalties and injunctive relief pursuant to Section 113(b) of the Clean Air Act (“CAA”), 42 U.S.C. 7413(b) (1983), amended by, 42 U.S.C. 7413(b) (Supp. 1991), covering nine refineries, and was lodged with the Court on March 21, 2001, and entered on August 20, 2001, as part of EPA's Petroleum Refinery Initiative. The proposed Addendum modifies the NOX emission reduction requirement for heaters and boilers at Shell's Bakersfield refinery. The proposed Addendum specifies that Shell will achieve a NOX reduction of 3,661 tons per year (“tpy”) by December 31, 2004 (the original 3,668 tpy less a 7 tpy shortfall). Shell has agreed to make up for the 7 tpy shortfall by not later than March 31, 2005, and to additionally achieve a further reduction of 62 tpy by that date.

The Department of Justice will receive for a period of fifteen (15) days from the date of this publication comments relating to the Fourth Addendum to Consent Decree. Comments should be addressed to the Assistant Attorney General, Environment and Natural Resources Division, P.O. Box 7611, U.S. Department of Justice, Washington, DC 20044-7611, and should refer to: United States v. Motiva Enterprises LLC., D.J. Ref. 90-5-2-1-07209.

The proposed Addendum may be examined at the Office of the United States Attorney, Southern District of Texas, U.S. Courthouse, 515 Rusk, Houston, Texas 77002, and at EPA Region 6, 1445 Ross Avenue, Dallas, Texas 75202. During the public comment period the Fourth Addendum to the Consent Decrees may also be examined on the following Department of Justice Web site, http://www.usdoj.gov/enrd/open.html. A copy of the Addendum may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.00 (25 cents per page reproduction cost) payable to the U.S. Treasury.

Robert D. Brook,
Assistant Chief Environmental Enforcement Section, Environment and Natural Resources Division.

[FR Doc. 04-27150 Filed 12-9-04; 8:45 am]

BILLING CODE 4410-15-M